DEPARTMENT OF TRANSPORTATION

Federal Highway Administration

Notice of Final Federal Agency Action on Proposed Highway in Utah

AGENCY: Federal Highway Administration (FHWA), DOT.

ACTION: Notice of Limitations on Claims for Judicial Review of Actions by FHWA and other Federal Agencies.

SUMMARY: This notice announces actions taken by the FHWA and other Federal agencies that are final within the meaning of 23 U.S.C. 139(I)(1). The actions relate to a proposed transportation improvement project (Logan 200 East, minor arterial project) in Logan, Cache County in the State of Utah. These actions grant licenses, permits, and approvals for the project.

DATES: By this notice, the FHWA is advising the public of final agency actions subject to 23 U.S.C. 139(I)(1). A claim seeking judicial review of the FHWA actions on the highway project will be barred unless the claim is filed on or before August 1, 2012. If the Federal law that authorizes judicial review of a claim provides a time period of less than 180 days for filling such claim, then that shorter time period still applies.

FOR FURTHER INFORMATION CONTACT: For FHWA: Mr. Edward Woolford, Environmental Program Manager, Federal Highway Administration, 2520 West 4700 South, Suite 9A, Salt Lake City, Utah 84129; telephone (801) 955-3524; email: Edward.Woolford@dot.gov. The FHWA Utah Division's regular business hours are Monday through Friday, 7:30 a.m. to 4:30 p.m. MST.

SUPPLEMENTARY INFORMATION: Notice is hereby given that the FHWA and other Federal agencies have taken final agency actions by issuing licenses, permits and approvals for the following highway project in the State of Utah: The Logan 200 East Minor Arterial Project, Cash County, Utah, project number HPP-LC05(29), Federal Lead Agency: Federal Highway Administration.

Project Description: The Selected Alternative (Build Alternative 2A) implements a transportation project consisting of: (1) A new signalized intersection, including one through travel lane for all approaching directions, center turn lanes, right turn lanes, and designated pedestrian crosswalks; (2) the installation of two pedestrian under crossings locations; (3) construction of a roadway, with a slope to accommodate a change in elevation between Center Street and 100 South, and retaining walls to retain roadway fills; (4) termination of Pioneer Avenue in a cul-de-sac and access for all existing uses would be maintained; (5) road resurfacing, restriping to establish uniform roadway cross-section throughout the corridor, reconstruction of curb and gutter, and installation of storm drainage facilities as needed to convey drainage; (6) reconstruction of the intersection of 200 south and 200 east and widening the southern leg to match the northern roadway width and reconfiguration of intersection controls; (7) widening, with an 11-foot center turn lane, two 11-foot travel lanes, two 11- foot parking/bike lanes, 2.5-foot curb and gutter, 8-foot park strips, 5-foot sidewalks, and 1-foot buffers behind sidewalks; and (8) construction of intersection improvements, including left-turn lanes for both east/westbound travel on 200 East, and a right-turn lane westbound.

The actions by the FHWA and other Federal agencies, and the laws under which such actions were taken, are described in the Environmental Assessment (EA) for the project, approved on January 13, 2011, in the FHWA Finding of No Significant Impact (FONSI) issued on January 12, 2012, and in other documents in the FHWA administrative record. The EA, FONSI, and other documents in the FHWA administrative record are available by contacting the FHWA at the address provided above.

This notice applies to all Federal agency decisions as of the issuance date of this notice and all laws under which such actions were taken, including but not limited to:

1. General: National Environmental Policy Act (NEPA) [49 U.S.C. 4321-4351]; Federal-Aid Highway Act [23 U.S.C. 109 and 23 U.S.C. 128];

2. Air: Clean Air Act [42 U.S.C. 7401-7671(q)];

3. Land: Section 4(f) of the Department of Transportation Act of 1966 [49 U.S.C. 303];

4. Wildlife: Endangered Species Act [16 U.S.C 1531-1544 and Section 1536]; Migratory Bird Treaty Act [16 U.S.C. 703-712];

5. Historic and Cultural Resources: Section 106 of the National Historic Preservation Act of 1966, as amended [16 U.S.C.470 (f) et seq.];

6. Social and Economic: Civil Rights Act of 1964 [42 U.S.C. 2000(d)-2000(d)(1); Farmland Protection Policy Act (FPPA) [7 U.S.C. 4201-4209];

7. Wetlands and Water Resources: Safe Drinking Water Act [42 U.S.C. 300f et seq.]; TEA-21 Wetlands Mitigation [23 U.S.C. 103(b)(6)(m), 133(b)(11); Flood disaster Protection Act [42 U.S.C. 4001-129].

8. Executive Orders: E.O. 11990, Protection of Wetlands; E.O. 11988, Floodplain Management; E.O. 12898, Federal Actions to address Environmental Justice in Minority Populations and Low Income Populations; E.O. 13175, Consultation and Coordination with Indian and Tribal Governments; E.O. 13112, Invasive Species. Nothing in this notice creates a cause of action under these Executive Orders.

(Catalog of Federal Domestic Assistance Program Number 20.205, Highway Planning and Construction. The regulations implementing Executive Order 12372 regarding intergovernmental consultation on Federal programs and activities apply to this program.)

Authority: 23 U.S.C. 139(I)(1)

Issued on: January 23, 2012.
James C. Christian,
Division Administrator, Salt Lake City.

[FR Doc. 2012-2428 Filed 2-2-12; 8:45 am]

BILLING CODE 4910-RY-P